DEPARTMENT OF JUSTICE

Parole Commission

28 CFR Part 2

Paroling, Recommitting, and Supervising Federal Prisoners: Prisoners Serving Sentences Under the United States and District of Columbia Codes; Correction

AGENCY: United States Parole Commission, Department of Justice.

ACTION: Interim rule; correction.

SUMMARY: On June 17, 2009, the U.S. Parole Commission published an interim rule with request for comments. The effective date for the rule was inadvertently omitted from the document. This correction establishes June 17, 2009, as the effective date of the interim rule. Comments continue to be accepted until August 31, 2009. The Parole Commission also is taking this opportunity to make some technical corrections to the rule.

DATES: Effective Date: The interim rule published June 17, 2009 (74 FR 28602) is effective June 17, 2009.

FOR FURTHER INFORMATION CONTACT: Rockne Chickinell, Office of the General Counsel, U.S. Parole Commission, 5550 Friendship Boulevard, Chevy Chase, Maryland 20815, telephone (301) 492-5959.

SUPPLEMENTARY INFORMATION: In rule FR Doc. 2009-14157 published on June 17, 2009 (74 FR 28602), make the following corrections:

1. On page 28602, in the third column, after DATES:, add the phrase “This interim rule is effective June 17, 2009.”

§ 2.43 [Corrected]

2. On page 28604, in the third column, the paragraph designations “(A)” and “(B)” under paragraph (g)(1) are corrected to read “(i)” and “(ii)”, respectively.

§ 2.65 [Corrected]

3. On page 28605, in the first column in § 2.65(i), in the third and fourth lines, the words “these regulations” are revised to read “this part”.

§ 2.95 [Corrected]

4. On page 28605, in the second column, the paragraph designations “(A)” and “(B)” under paragraph (e)(1) are corrected to read “(i)” and “(ii)”, respectively.

§ 2.96 [Corrected]

5. On page 28605, in the third column, in amendatory instruction 9, after the words “first sentence”, add the words “of the introductory text”.

§ 2.97 [Corrected]

6. On page 28605, in the third column, in the last line, add the words “of this section” after “and (d)(3)”.

7. On page 28606, in the first column, the paragraph designations “(2)(A)” and “(B)” are corrected to read “(2)(i)” and “(ii)”, respectively.

§ 2.208 [Corrected]

8. On page 28606, in the second column, the paragraph designations “(A)” and “(B)” under paragraph (d)(1) are corrected to read “(i)” and “(ii)”, respectively.

Dated: June 19, 2009.
Rockne Chickinell,
General Counsel, U.S. Parole Commission.

[FR Doc. E9-14977 Filed 6-23-09; 8:45 am]

BILLING CODE 4410-31-P